DEPARTMENT OF ENERGY

Federal Energy Regulatory Commission

Combined Notice of Filings #1

Take notice that the Commission received the following exempt wholesale generator filings:

Docket Numbers: EG11-59-000.

Applicants: Alta Wind VI, LLC.

Description: Self-Certification of Exempt Wholesale Generator Status of Alta Wind VI, LLC.

Filed Date: 02/24/2011.

Accession Number: 20110224-5089.

Comment Date: 5 p.m. Eastern Time on Thursday, March 17, 2011.

Docket Numbers: EG11-60-000.

Applicants: Alta Wind VIII, LLC.

Description: Self-Certification of Exempt Wholesale Generator Status of Alta Wind VIII, LLC.

Filed Date: 02/24/2011.

Accession Number: 20110224-5090.

Comment Date: 5 p.m. Eastern Time on Thursday, March 17, 2011.

Take notice that the Commission received the following electric rate filings:

Docket Numbers: ER08-1096-001; ER10-2160-001; ER10-2161-001; ER10-2162-001; ER10-2163-001.

Applicants: NAEA Energy Massachusetts, LLC, NAEA Ocean Peaking Power, LLC, NAEA Rock Springs, LLC, NAEA Lakewood Cogeneration, LP, NAEA Newington Energy, LLC.

Description: Supplemental Information of NAEA Companies.

Filed Date: 02/24/2011.

Accession Number: 20110224-5099.

Comment Date: 5 p.m. Eastern Time on Thursday, March 17, 2011.

Docket Numbers: ER10-1515-001; ER10-1516-001; ER10-64-004.

Applicants: CPV Liberty, LLC; CPV Milford, LLC; CPV Keenan II Renewable Energy Company, LLC.

Description: Notification of Change in Status of CPV Keenan II Renewable Energy Company, LLC, et al.

Filed Date: 02/23/2011.

Accession Number: 20110223-5187.

Comment Date: 5 p.m. Eastern Time on Wednesday, March 16, 2011.

Docket Numbers: ER10-2607-002.

Applicants: Old Dominion Electric Cooperative.

Description: Old Dominion Electric Cooperative submits tariff filing per 35: Rate Formula Compliance Filing to be effective 1/1/2011.

Filed Date: 01/27/2011.

Accession Number: 20110127-5169.

Comment Date: 5 p.m. Eastern Time on Monday, March 7, 2011.

Docket Numbers: ER11-1834-001.

Applicants: Kentucky Power Company.

Description: Kentucky Power Company submits tariff filing per 35: 20110223 KPCo MBR Concurrence Compliance to be effective 10/8/2010.

Filed Date: 02/23/2011.

Accession Number: 20110223-5149.

Comment Date: 5 p.m. Eastern Time on Wednesday, March 16, 2011.

Docket Numbers: ER11-1835-001.

Applicants: Kingsport Power Company.

Description: Kingsport Power Company submits tariff filing per 35: 20110223 KGP MBR Concurrence Compliance to be effective 10/8/2010.

Filed Date: 02/23/2011.

Accession Number: 20110223-5150.

Comment Date: 5 p.m. Eastern Time on Wednesday, March 16, 2011.

Docket Numbers: ER11-1837-001.

Applicants: Ohio Power Company.

Description: Ohio Power Company submits tariff filing per 35: 20110223 OPCo MBR Concurrence Compliance to be effective 10/8/2010.

Filed Date: 02/23/2011.

Accession Number: 20110223-5154.

Comment Date: 5 p.m. Eastern Time on Wednesday, March 16, 2011.

Docket Numbers: ER11-1838-001.

Applicants: Wheeling Power Company.

Description: Wheeling Power Company submits tariff filing per 35: 20110223 WPCo MBR Concurrence Compliance to be effective 10/8/2010.

Filed Date: 02/23/2011.

Accession Number: 20110223-5167.

Comment Date: 5 p.m. Eastern Time on Wednesday, March 16, 2011.

Docket Numbers: ER11-2598-003.

Applicants: Gateway Energy Services Corporation.

Description: Gateway Energy Services Corporation submits tariff filing per 35: Second Supplement to Tariff Revision Regarding Seller Category to be effective 3/4/2011.

Filed Date: 02/24/2011.

Accession Number: 20110224-5107.

Comment Date: 5 p.m. Eastern Time on Thursday, March 17, 2011.

Docket Numbers: ER11-2765-000.

Applicants: Elk Wind Energy LLC.

Description: Supplemental Information of Elk Wind Energy LLC.

Filed Date: 02/23/2011.

Accession Number: 20110223-5036.

Comment Date: 5 p.m. Eastern Time on Wednesday, March 16, 2011.

Docket Numbers: ER11-2942-000.

Applicants: Allegheny Energy Supply Company, LLC.

Description: Allegheny Energy Supply Company, LLC submits request for authorization to make wholesale power sales to its affiliate.

Filed Date: 02/23/2011.

Accession Number: 20110223-0207.

Comment Date: 5 p.m. Eastern Time on Wednesday, March 16, 2011.

Docket Numbers: ER11-2944-000.

Applicants: Pilot Power Group, Inc.

Description: Pilot Power Group, Inc. submits tariff filing per 35.15: PPG Tariff to be effective 1/17/2011.

Filed Date: 02/23/2011.

Accession Number: 20110223-5173.

Comment Date: 5 p.m. Eastern Time on Wednesday, March 16, 2011.

Docket Numbers: ER11-2946-000.

Applicants: New York Independent System Operator, Inc., Niagara Mohawk Power Corporation.

Description: New York Independent System Operator, Inc. submits tariff filing per 35.13(a)(2)(iii): LGIA Among NYISO, National Grid and Roaring Brook to be effective 2/11/2011.

Filed Date: 02/24/2011.

Accession Number: 20110224-5117.

Comment Date: 5 p.m. Eastern Time on Thursday, March 17, 2011.

Docket Numbers: ER11-2947-000.

Applicants: PJM Interconnection, L.L.C.

Description: PJM Interconnection, L.L.C. submits tariff filing per 35.13(a)(2)(iii): Revisions to the RAA Schedule 17—Parties to the RAA to be effective 2/14/2011.

Filed Date: 02/24/2011.

Accession Number: 20110224-5139.

Comment Date: 5 p.m. Eastern Time on Thursday, March 17, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: February 24, 2011.
Nathaniel J. Davis, Sr.,
Deputy Secretary.

[FR Doc. 2011-5023 Filed 3-4-11; 8:45 am]

BILLING CODE 6717-01-P